DEPARTMENT OF COMMERCE

National Oceanic and Atmospheric Administration

Agency Information Collection Activities; Submission to the Office of Management and Budget (OMB) for Review and Approval; Comment Request; U.S. Caribbean Commercial Fishermen Census

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 9th, 2024, during a 60-day comment period. This notice allows for an additional 30 days for public comments.

Agency: National Oceanic and Atmospheric Administration, Commerce.

Title: U.S. Caribbean Commercial Fishermen Census.

OMB Control Number: 0648-0716.

Form Number(s): [None].

Type of Request: Regular submission [extension of a current information collection].

Number of Respondents: 1,500.

Average Hours per Response: 45 minutes to complete the Fisher Census Survey Form.

Total Annual Burden Hours: 1,125 hours.

Needs and Uses: This is a request for renewal of an approved information collection. The National Marine Fisheries Service (NMFS) proposes to conduct a census of small-scale fishers operating in the United States (U.S.) Caribbean. This data collection applies Puerto Rico and the U.S. Virgin Islands. The proposed socio-economic study will collect information on demographics, capital investment in fishing gear, equipment and vessels, fishing and marketing practices, economic performance, crew dynamics, and miscellaneous attitudinal questions. The data gathered will be used for the development of amendments to fishery management plans, which require descriptions of the human and economic environment and socio-economic analyses of regulatory proposals. The information collected will also be used to strengthen fishery management decision-making and satisfy various legal mandates under the Magnuson-Stevens Fishery Conservation and Management Act (U.S.C. 1801 et seq.; MSA), Executive Order 12866, Regulatory Flexibility Act, Endangered Species Act (ESA), and National Environmental Policy Act (NEPA), and other pertinent statues.

Affected Public: Business or other for-profit organizations.

Frequency: Annually.

Respondent's Obligation: Voluntary.

Legal Authority: NEPA and MSA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0716.

Sheleen Dumas,
Departmental PRA Clearance Officer, Office of the Under Secretary for Economic Affairs, Commerce Department.

[FR Doc. 2025-01670 Filed 1-23-25; 8:45 am]

BILLING CODE 3510-22-P